DEPARTMENT OF JUSTICE

Notice of Lodging of Consent Decree Under the Comprehensive Environmental Response, Compensation, and Liability Act of 1980 (“CERCLA”)

Notice is hereby given that on August 3, 2011, a proposed Consent Decree in United States and Commonwealth of Massachusetts v. BIM Investment Corp. et al., Civil Action No. 1:11-cv-11382 was lodged with the United States District Court for the District of Massachusetts.

The Consent Decree resolves claims brought by the United States, on behalf of the United States Department of the Interior (“DOI”), acting through the United States Fish and Wildlife Service, and the Commonwealth of Massachusetts (“Commonwealth”), on behalf of the Secretary of Energy and Environmental Affairs (“EEA”), against four parties (“Settling Defendants”) under Section 107 of CERCLA, 42 U.S.C. 9607. In their respective complaints, filed concurrently with the Consent Decree, the United States and the Commonwealth sought damages in order to compensate for and restore natural resources injured by the release or threatened release of hazardous substances at or from the Blackburn and Union Privileges Superfund Site in Walpole, Massachusetts (the “Site”), along with the recovery of costs incurred in assessing such damages.

Under the Consent Decree, Settling Defendants Tyco Healthcare Group LP, W.R. Grace & Co.-Conn., BIM Investment Corporation, and Shaffer Realty Nominee Trust will pay $1,000,000 for natural resource damages restoration projects to be conducted by DOI and EEA. The Consent Decree also requires the Settling Defendants to reimburse the United States and the Commonwealth for a combined $94,169.56 in assessment costs.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States and Commonwealth of Massachusetts v. BIM Investment Corp. et al., D.J. Ref. No. 90-11-3-09667/1.

During the public comment period, the Consent Decree may also be examined on the following Department of Justice Web site: http://www.justice.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $6.75 (25 cents per page reproduction cost), payable to the U.S. Treasury or, if by e-mail or fax, forward a check in that amount to the Consent Decree Library at the stated address.

Ronald G. Gluck,
Assistant Section Chief, Environmental Enforcement Section, Environment and Natural Resources Division.

[FR Doc. 2011-20581 Filed 8-11-11; 8:45 am]

BILLING CODE 4410-15-P